ENVIRONMENTAL PROTECTION AGENCY

40 CFR Part 62

[TN-219-2-200008b; FRL-6539-5]

Approval and Promulgation of State Plans for Designated Facilities and Pollutants; Tennessee; Approval of 111(d) Plan for Municipal Solid Waste Landfills in Chattanooga-Hamilton County

AGENCY: Environmental Protection Agency (EPA).

ACTION: Proposed rule.

SUMMARY: EPA proposes to approve the section 111(d) Plan for Chattanooga-Hamilton County submitted by the State of Tennessee, through the Tennessee Department of Environment and Conservation (DEC) on April 26, 1999, for implementing and enforcing the Emissions Guidelines applicable to existing Municipal Solid Waste Landfills. The Plan was submitted by the Tennessee DEC to satisfy certain Federal Clean Air Act requirements. In the Final Rules section of this Federal Register, the EPA is approving the Chattanooga-Hamilton County Plan submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before March 24, 2000.

ADDRESSES: All comments should be addressed to: Allison Humphris at the EPA, Region 4 Air Planning Branch, 61 Forsyth Street, SW, Atlanta, Georgia 30303.

Copies of the state submittal(s) are available at the following addresses for inspection during normal business hours:

• Environmental Protection Agency, Region 4, Air Planning Branch, 61 Forsyth Street, SW, Atlanta, Georgia 30303-8960. Allison Humphris, 404/562-9030.

• Tennessee Department of Environment and Conservation, Division of Air Pollution Control, L & C Annex, 9th Floor, 401 Church Street, Nashville, Tennessee 37243-1531. 615/532-0554.

• Chattanooga-Hamilton County Air Pollution Control Bureau, 3511 Rossville Boulevard, Chattanooga, Tennessee, 37407-2495, 423/867-4321.

FOR FURTHER INFORMATION CONTACT: Allison Humphris at 404/562-9030.

SUPPLEMENTARY INFORMATION: For additional information see the direct final rule which is published in the Final Rules section of this Federal Register.

Dated: February 3, 2000.
A. Stanley Meiburg,
Acting Regional Administrator, Region 4.

[FR Doc. 00-4044 Filed 2-22-00; 8:45 am]

BILLING CODE 6560-50-P